DEPARTMENT OF COMMERCE

International Trade Administration

[A-421-811]

Purified Carboxymethylcellulose from the Netherlands: Final Results of Antidumping Duty Administrative Review

AGENCY: Import Administration, International Trade Administration, Department of Commerce.

SUMMARY: On August 7, 2007, the Department of Commerce (the Department) published the preliminary results of the administrative review of the antidumping duty order on purified carboxymethylcellulose (CMC) from the Netherlands. The period of review (POR) is December 27, 2004, through June 30, 2006. We received comments from interested parties and have made changes to the margin for the final results. The final margin for the respondent is listed below in the section entitled “Final Results of Review.”

EFFECTIVE DATE: December 13, 2007.

FOR FURTHER INFORMATION CONTACT: Stephen Bailey or Angelica Mendoza, AD/CVD Operations, Office 7, Import Administration, International Trade Administration, U.S. Department of Commerce, 14th Street and Constitution Avenue, NW, Washington, DC 20230; telephone: (202) 482-0193 or (202) 482-3019, respectively.

SUPPLEMENTARY INFORMATION:

Background

On August 7, 2007, the Department published the preliminary results of the administrative review of the antidumping duty order on CMC from the Netherlands. See Purified Carboxymethylcellulose from the Netherlands; Preliminary Results of Antidumping Duty Administrative Review, 72 FR 44099 (August 7, 2007) (Preliminary Results). On August 7, 2007, the Department issued an additional supplemental questionnaire to CP Kelco B.V. and Noviant B.V. (collectively, CP Kelco), respondent in this administrative review, requesting that it report third country and U.S. sales factoring expenses on a transaction-specific basis to the Department. CP Kelco submitted its response on August 15, 2007. See Letter from Arent Fox, LLP to the Secretary of Commerce dated August 15, 2007 (Factoring Expenses Supplemental Response). For a further discussion of CP Kelco's factoring expenses, see “Changes Since the Preliminary Results” section below. We invited interested parties to comment on the Preliminary Results. On September 6, 2007, CP Kelco filed with the Department its case brief on the Preliminary Results. On September 11, 2007, The Aqualon Company, a division of Hercules Incorporated (petitioner) filed its rebuttal brief to CP Kelco's September 6, 2007, case brief. We received no requests for a public hearing from the parties.

Scope of the Antidumping Duty Order

The merchandise covered by the order is all purified CMC, sometimes also referred to as purified sodium CMC, polyanionic cellulose, or cellulose gum, which is a white to off-white, non-toxic, odorless, biodegradable powder, comprising sodium CMC that has been refined and purified to a minimum assay of 90 percent. Purified CMC does not include unpurified or crude CMC, CMC Fluidized Polymer Suspensions, and CMC that is cross-linked through heat treatment. Purified CMC is CMC that has undergone one or more purification operations, which, at a minimum, reduce the remaining salt and other by-product portion of the product to less than ten percent. The merchandise subject to this order is currently classified in the Harmonized Tariff Schedule of the United States at subheading 3912.31.00. This tariff classification is provided for convenience and customs purposes; however, the written description of the scope of this order is dispositive.

Analysis of Comments Received

All issues raised in the briefs are addressed in the “Issues and Decision Memorandum for the Final Results of the First Antidumping Duty Administrative Review of Purified Carboxymethylcellulose from the Netherlands,” dated December 3, 2007 (Issues and Decision Memorandum), which is hereby adopted by this notice. A list of the issues raised, all of which are in the Issues and Decision Memorandum, is attached to this notice as Appendix I. Parties can find a complete discussion of all issues raised in the briefs and the corresponding recommendations in this public memorandum which is on file in the Central Records Unit (CRU), room B-099 of the Department of Commerce building. In addition, a complete version of the Issues and Decision Memorandum can be accessed directly on the Web at http://www.trade.gov/ia/. The paper copy and electronic version of the Issues and Decision Memorandum are identical in content.

Changes Since the Preliminary Results

Based on the comments received from the interested parties, we have made changes to the margin calculation for CP Kelco, which include corrections to clerical errors made at the Preliminary Results with regard to foreign currency conversions. Additionally, as stated above, CP Kelco submitted its Factoring Expenses Supplemental Response on August 15, 2007. Petitioner did not comment on these data in its case and rebuttal briefs. Following our review of these data, we have determined that it is appropriate to revise our calculation of both comparison market and U.S. market net price using the transaction-specific factoring expenses (i.e., transaction fees charged to CP Kelco by its affiliated financial institution for purchasing CP Kelco's account receivables and remitting payment to CP Kelco at an earlier date than payment would have been otherwise received from the invoiced customer) reported by CP Kelco in the Factoring Expenses Supplemental Response. For a discussion of the changes to the margin calculations for CP Kelco, see Memorandum to the File entitled, “First Antidumping Duty Administrative Review of Purified Carboxymethylcellulose from the Netherlands: Analysis Memorandum for the Final Results of Review for CP Kelco B.V.,” from Stephen Bailey, Case Analyst, dated December 3, 2007 (Final Analysis Memo). A public version of this memorandum is on file in the CRU.

Final Results of Review

In the Preliminary Results, we preliminarily determined that CP Kelco B.V., as it alleged, is the successor-in-interest to the former Noviant B.V. for purposes of this proceeding and application of the antidumping law. We did not receive comments on this issue and have no reason to change our findings from the Preliminary Results. For a complete discussion of our successorship analysis, see Preliminary Results at 44101.

Accordingly, we determine that CP Kelco B.V. is the successor-in-interest to Noviant B.V., and that the following antidumping duty margin exists for the period December 27, 2004, through June 30, 2006:

Manufacturer/Exporter | Weighted-Average Margin (Percent)
CP Kelco B.V. | 4.59

Assessment Rates

The Department will determine, and U.S. Customs and Border Protection (CBP) shall assess, antidumping duties on all appropriate entries. Pursuant to section 751(a)(1) of the Tariff Act of 1930, as amended (the Act) and 19 CFR 351.212(b), the Department calculates an assessment rate for each importer of the subject merchandise covered by the review. Upon issuance of the final results of this review, if any importer-specific assessment rates calculated in the final results are above de minimis (i.e., at or above 0.50 percent), we will issue appraisement instructions directly to CBP to assess antidumping duties on appropriate entries by applying the assessment rate to the entered value of the merchandise. To determine whether the duty-assessment rate covering the period is de minimis, in accordance with the requirement set forth in 19 CFR 351.106(c)(2), we have calculated an importer-specific assessment ad valorem rate by aggregating the dumping margins calculated for all U.S. sales to the importers of CP Kelco's subject merchandise and dividing this amount by the total entered value of the sales to that importer. Where the importer-specific ad valorem rate is greater than de minimis, we will instruct CBP to apply the assessment rate to the entered value of the importer's entries during the POR. The Department intends to issue assessment instructions to CBP 15 days after the date of publication of these final results of review.

The Department clarified its “automatic assessment” regulation on May 6, 2003. See Antidumping and Countervailing Duty Proceedings: Assessment of Antidumping Duties, 68 FR 23954 (May 6, 2003) (Assessment Policy Notice). This clarification will apply to entries of subject merchandise during the POR produced by CP Kelco, for which CP Kelco did not know that the merchandise it sold to an intermediary (e.g., a reseller, trading company, or exporter) was destined for the United States. In such instances, we will instruct CBP to liquidate unreviewed entries at the all-others rate if there is no company-specific rate for an intermediary involved in the transaction. See Assessment Policy Notice for a full discussion of this clarification.

Cash-Deposit Requirements

The following deposit requirements will be effective upon publication of these final results of this administrative review for all shipments of CMC from the Netherlands that are entered, or withdrawn from warehouse, for consumption on or after the publication date of the final results, as provided by section 751(a)(2)(C) of the Act: (1) the cash-deposit rate for CP Kelco will be 4.59 percent; (2) for merchandise exported by producers or exporters that were previously investigated, the cash deposit will continue to be the most recent rate published in the final determination for which the producer or exporter received an individual rate; (3) if the exporter is not a firm covered in this review or the original less-than-fair-value investigation (LTFV) but the manufacturer is, the cash-deposit rate will be the rate established for the most recent period for the manufacturer of the subject merchandise; and (4) if neither the exporter nor the manufacturer is a firm covered in this review or the LTFV investigation, the cash-deposit rate shall be 14.57 percent, the all-others rate established in the less-than-fair-value investigation. See Notice of Final Determination of Sales at Less Than Fair Value: Purified Carboxymethylcellulose from the Netherlands, 70 FR 28275 (May 17, 2005). These cash-deposit requirements shall remain in effect until further notice.

Notification to Importers

This notice serves as a final reminder to importers of their responsibility under 19 CFR 351.402(f) to file a certificate regarding the reimbursement of antidumping duties prior to liquidation of the relevant entries during the review period. Failure to comply with this requirement could result in the Secretary's presumption that reimbursement of antidumping duties occurred and the subsequent assessment of double antidumping duties.

This notice also serves as the only reminder to parties subject to administrative protective orders (APO) of their responsibility concerning the return or destruction of proprietary information disclosed under APO in accordance with 19 CFR 351.305(a)(3). Timely written notification of the return/destruction of APO materials or conversion to judicial protective order is hereby requested. Failure to comply with the regulations and terms of an APO is a violation that is subject to sanction.

These final results of administrative review and notice are issued and published in accordance with sections 751(a)(1) and 777(i)(1) of the Act.

Dated: December 3, 2007.
Stephen J. Claeys,
Acting Assistant Secretary for Import Administration.

Appendix I

Comment 1: Alleged Errors Regarding Foreign Currency Conversions

Comment 2: Excluded Constructed Export Price Sales

Comment 3: Zeroing of Non-Dumping Margins

[FR Doc. E7-24186 Filed 12-12-07; 8:45 am]

BILLING CODE 3510-DS-S